DEPARTMENT OF HEALTH AND HUMAN SERVICES

Administration for Children and Families

Office of Refugee Resettlement Grant to the New York Office of Temporary and Disability Assistance, Bureau of Refugee and Immigrant Affairs

AGENCY: Office of Refugee Resettlement, HHS.

ACTION: Grant award announcement.

SUMMARY: Notice is hereby given that an award is being made to the New York Office of Temporary and Disability Assistance, Bureau of Refugee and Immigrant Affairs, Albany, New York in the amount of $3,000,000 to provide funds to refugees in the New York City area in need of employment assistance due to the economic impact of the September 11, 2001 attack on the World Trade Center. The events of September 11th have caused disruptions in refugee employment as a result of the economic downturn in New York City. Many of the New York City businesses that traditionally provide employment to refugees are located in lower Manhattan. A number of hotels and restaurants that employ refugees were damaged or destroyed. Many refugees have experienced lay-offs in the hotel and service industry. These unemployed refugees are now unable to find new jobs because newly unemployed skilled workers have begun to compete for entry level jobs.

Many of these refugees arrived in the United States some time ago and are no longer eligible for refugee cash assistance (RCA) and refugee medical assistance (RMA). The New York Bureau of Refugee and Immigrant Affairs will provide funds to New York City refugee service providers for mental health services, employment training and assistance for displaced workers, community and employer outreach and education, transportation assistance, and direct assistance.

After the appropriate reviews, it has been determined that the need for additional services is compelling. The period of this funding will extend through July 31, 2003.

FOR FURTHER INFORMATION CONTACT: Gayle Smith, Office of Refugee Resettlement, Administration for Children and Families, 370 L'Enfant Promenade, SW., Washington, DC 20447, telephone (202) 205-3590.

Dated: March 26, 2002.
Nguyen Van Hanh,
Director, Office of Refugee Resettlement.

[FR Doc. 02-8616 Filed 4-9-02; 8:45 am]

BILLING CODE 4184-01-M